DEPARTMENT OF THE INTERIOR

U.S. Geological Survey

[USGS GX11GK009970000]

Proposed Information Collection; Comment Request

AGENCY: United States Geological Survey (USGS), Interior.

ACTION: Notice; request for comments.

SUMMARY: We (U.S. Geological Survey) will ask the Office of Management and Budget (OMB) to approve the information collection (IC) described below. To comply with the Paperwork Reduction Act of 1995 and as a part of our continuing efforts to reduce paperwork and respondent burden, we invite the general public and other federal agencies to comment on this IC. We may not conduct or sponsor and a person is not required to respond to a collection unless it displays a currently valid OMB control number.

DATES: You must submit comments on or before February 18, 2011.

ADDRESSES: Send your comments to the IC to Phadrea Ponds, Information Collections Clearance Officer, U.S. Geological Survey, 2150-C Center Avenue, Fort Collins, CO 80525 (mail); (970) 226-9230 (fax); or pponds@usgs.gov (e-mail). Please reference Information Collection 1028-NEW, DYSI.

FOR FURTHER INFORMATION CONTACT: Rex Baum by mail at U.S. Geological Survey, Denver Federal Center, Box 25046, M.S. 966, Denver, CO 80225-0046, or by telephone at 303-273-8610.

SUPPLEMENTARY INFORMATION:

I. Abstract

Landslides are a serious but little understood hazard in the U.S., causing more than $3 billion in damages and 25 deaths per year. The objective of this collection is to educate Americans about landslide hazards and to build better inventories of landslides through citizen participation. This project will make it possible for the public to report their observations of landslides on a Web site. The information gathered through the on-line database will be used to classify the landslides and damage, as well as provide information to scientists about the location, time, speed, and size of the landslides. The USGS Landslide Hazards Program is developing an interactive Web site for public reporting of landslides that is patterned after the USGS Earthquake Program's successful “Did you feel it?” Web site for collecting reports of felt earthquakes. A Pilot Project will be conducted in the United States. The USGS may use the information to provide qualitative, quantitative, or graphical descriptions of landslide damage. We will protect information from respondents considered proprietary under the Freedom of Information Act (5 U.S.C. 552) and implementing regulations (43 CFR part 2), and under regulations at 30 CFR 250.197, “Data and information to be made available to the public or for limited inspection.” Responses are voluntary. No questions of a “sensitive” nature are asked.

II. Data

OMB Control Number: None. This is a new collection.

Title: USGS Landslide Report.

Type of Request: New.

Affected Public: General public.

Respondent's Obligation: Voluntary.

Frequency of Collection: On occasion, after a landslide.

Estimated Annual Number of Respondents: 2,000.

Estimated Total Annual Burden Hours: 200.

III. Request for Comments

We invite comments concerning this IC on: (1) Whether or not the collection of information is necessary, including whether or not the information will have practical utility; (2) the accuracy of our estimate of the burden for this collection of information; (3) ways to enhance the quality, utility, and clarity of the information to be collected; and (4) ways to minimize the burden of the collection of information on respondents. Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done. To comply with the public process, we hereby publish this Federal Register notice announcing that we will submit this IC to OMB for approval. The notice provides the required 60-day public comment period.

Dated: December 3, 2010.
William S. Leith,
Acting Associate Director for Natural Hazards.

[FR Doc. 2010-30952 Filed 12-8-10; 8:45 am]

BILLING CODE 4311-AM-P